COMMITTEE FOR PURCHASE FROM PEOPLE WHO ARE BLIND OR SEVERELY DISABLED

Procurement List; Addition and Deletions

AGENCY: Committee for Purchase from People Who Are Blind or Severely Disabled.

ACTION: Addition to and deletions from Procurement List.

SUMMARY: This action adds to the Procurement List a service to be furnished by nonprofit agencies employing persons who are blind or have other severe disabilities, and deletes from the Procurement List services previously furnished by such agencies.

EFFECTIVE DATE: May 1, 2005.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703)603-0655, or e-mail SKennerly@jwod.gov.

SUPPLEMENTARY INFORMATION:

Addition

On February 4, 2005, the Committee for Purchase From People Who Are Blind or Severely Disabled published notice (70 FR 5964) of proposed addition to the Procurement List. After consideration of the material presented to it concerning capability of qualified nonprofit agencies to provide the service and impact of the addition on the current or most recent contractors, the Committee has determined that the service listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

End of Certification

Accordingly, the following service is added to the Procurement List:

Service

Service Type/Location: Custodial Services, Howard M. Metzenbaum United States Courthouse, 201 West Superior Avenue, Cleveland, Ohio.

NPA: VGS, Inc., Cleveland, Ohio.

Contracting Activity: GSA, PBS—5P, Chicago, Illinois.

Deletions

On February 4, 2005, the Committee for Purchase From People Who Are Blind or Severely Disabled published notice (70 F.R. 5964) of proposed deletions to the Procurement List. After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Disassembly of Recorders, U.S. Geological Survey, Hydrologic Instrumentation Facility, Stennis Space Center, Mississippi.

NPA: South Mississippi Regional Center, Long Beach, Mississippi.

Contracting Activity: Department of Interior, Reston, Virginia.

Service Type/Location: Janitorial/Custodial, U.S. Army Reserve Center, Hoyt Avenue, Binghamton, New York.

NPA: Sheltered Workshop for the Disabled, Inc., Binghamton, New York.

Contracting Activity: Department of the Army, Fort Drum, New York.

Service Type/Location: Rehabilitation of Recorder Covers, U.S. Geological Survey, Bay St. Louis, Mississippi.

NPA: South Mississippi Regional Center, Long Beach, Mississippi.

Contracting Activity: Department of Interior, Reston, Virginia.

Sheryl D. Kennerly,
Director, Information Management.

[FR Doc. 05-6470 Filed 3-31-05; 8:45 am]

BILLING CODE 6353-01-P